DEPARTMENT OF COMMERCE

International Trade Administration

[A-122-840]

Partial Rescission of Antidumping Duty Administrative Review: Carbon and Certain Alloy Steel Wire Rod from Canada

AGENCY: Import Administration, International Trade Administration, Department of Commerce.

EFFECTIVE DATE: September 7, 2007.

FOR FURTHER INFORMATION CONTACT: Steve Bezirganian or Robert James, AD/CVD Operations, Office 7, Import Administration, International Trade Administration, U.S. Department of Commerce, 14th Street and Constitution Avenue, NW., Washington, DC 20230; telephone: (202) 482-1131 or (202) 482-0649, respectively.

SUPPLEMENTARY INFORMATION:

Background

On October 2, 2006, the Department issued a notice of opportunity to request an administrative review of this order for the October 1, 2005 through September 30, 2006 period of review (POR). See Antidumping or Countervailing Duty Order, Finding, or Suspended Investigation; Opportunity to Request Administrative Review, 71 FR 57920 (October 2, 2006). On October 31, 2006, Mittal Canada Inc. (formerly Ispat Sidbec Inc.) requested an administrative review of its entries that were subject to the antidumping duty order for this period. On that same date, the Department also received requests from petitioners for a review of Ivaco, Inc. and Ivaco Rolling Mills L.P., and from Ivaco Rolling Mills 2004 L.P. and Sivaco Ontario, a division of Sivaco Wire Group 2004 L.P., for a review of those companies. On November 27, 2006, the Department published the notice of initiation of this antidumping duty administrative review, covering Ivaco Rolling Mills 2004 L.P., Mittal Canada Inc. (formerly Ispat Sidbec Inc.), and Sivaco Ontario Processing (a division of Sivaco Wire Group 2004 L.P.). See Initiation of Antidumping and Countervailing Duty Administrative Reviews and Request for Revocation in Part, 71 FR 68535 (November 27, 2006).¹

¹ Note that the Department recently concluded a changed circumstance review, in which it determined that, as of the publication of that final changed circumstance review, “(1) Ivaco Rolling Mills 2004 L.P. is the successor-in-interest to Ivaco Rolling Mills L.P.; and (2) Sivaco Ontario, a division of Sivaco Wire Group 2004 L.P., is the successor-in-interest to Ivaco Inc. for antidumping duty cash deposit purposes.” See Notice of Final Results of Antidumping Duty Changed Circumstances Review: Carbon and Certain Alloy Steel Wire Rod from Canada, 72 FR 15102, 15103 (March 30, 2007).

Partial Rescission of Review

On February 20, 2007, Mittal Canada Inc. (formerly Ispat Sidbec Inc.) withdrew its request for an administrative review of its entries during the above-referenced period. Pursuant to 19 CFR 351.213(d)(1), the Secretary will rescind an administrative review, in whole or in part, if the party who requested the review withdraws the request within 90 days of the date of publication of notice of initiation of the requested review. Because Mittal Canada Inc. (formerly Ispat Sidbec Inc.) withdrew its request for review within the 90-day period and no other party requested a review of its entries, in accordance with 19 CFR 351.213(d)(1), we are rescinding this review with respect to Mittal Canada Inc. (formerly Ispat Sidbec Inc.).

The Department will issue appropriate assessment instructions directly to the U.S. Customs and Border Protection (CBP) 15 days after the publication of this notice. The Department will direct CBP to assess antidumping duties at the cash deposit rate in effect on the date of entry for entries of subject merchandise produced and/or exported by Mittal Canada Inc. (formerly Ispat Sidbec Inc.) during the period October 1, 2005, through September 30, 2006.

This notice is published in accordance with section 777(i)(1) of the Tariff Act of 1930, as amended, and 19 CFR 351.213(d)(4).

Dated: August 31, 2007.
Gary Taverman,
Acting Deputy Assistant Secretary for Import Administration.

[FR Doc. E7-17705 Filed 9-6-07; 8:45 am]

BILLING CODE 3510-DS-S